DEPARTMENT OF ENERGY

Federal Energy Regulatory Commission

[Docket No. EL14-69-000]

Entergy Texas, Inc. (Complainant) v. East Texas Electric Cooperative, Inc., Sam Rayburn Electric Cooperative, Inc., Tex-La Electric Cooperative of Texas, Inc., (Respondents); Notice of Complaint

Take notice that on June 20, 2014, pursuant to Rules 206 and 212 of the Federal Energy Regulatory Commission's (Commission) Rules of Practice and Procedure, 18 CFR 385.206 and 385.212 and sections 206 and 306 of the Federal Power Act, 16 U.S.C. 824(e) and 825(e), Entergy Texas, Inc. (ETI) filed: (1) A formal complaint against East Texas Electric Cooperative, Inc., Sam Rayburn Electric Cooperative, Inc., and Tex-La Electric Cooperative of Texas, Inc. (collectively, ETEC) alleging that, ETI's allocation of its 2005 Bandwidth receipts to ETEC was unjust and unreasonable,¹ and (2) request that this proceeding be consolidated with Docket No. EL14-43-000.

¹ The Complainant argues that such allocation is unjust and unreasonable to the extent that the Commission holds, in Docket No. EL14-43-000, that ETI is required to allocate its Bandwidth payments or receipts, using an energy method or otherwise violated the Second Amended and Restated Agreement for Partial Requirements Wholesale Service between ETI and ETEC.

The ETI certifies that copies of the complaint were served on the contacts for ETEC as listed on the Commission's list of Corporate Officials, as well as ETEC's counsel in Docket No. EL14-43-000.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on July 21, 2014.

Dated: June 20, 2014.
Kimberly D. Bose,
Secretary.

[FR Doc. 2014-15081 Filed 6-26-14; 8:45 am]

BILLING CODE 6717-01-P